DEPARTMENT OF COMMERCE

Bureau of Industry and Security

President's Export Council Subcommittee on Export Administration; Notice of Open Meeting—Teleconference

The President's Export Council Subcommittee on Export Administration (PECSEA) will meet via teleconference on December 13, 2013, from 1:00 p.m. to 3:00 p.m. The PECSEA provides advice on matters pertinent to those portions of the Export Administration Act, as amended, that deal with United States policies of encouraging trade with all countries with which the United States has diplomatic or trading relations and of controlling trade for national security and foreign policy reasons.

Agenda:

1. Opening remarks by the Chairman.

2. Opening remarks by the Bureau of Industry and Security.

3. Export Control Reform Update.

4. Presentation of papers or comments by the Public.

5. Subcommittee Updates.

The open session will be accessible via teleconference to 15 participants on a first come, first serve basis. To join the conference, submit inquiries to Ms. Yvette Springer at Yvette.Springer@bis.doc.gov, no later than, December 6, 2013.

To the extent time permits, members of the public may present oral statements to the PECSEA. Written statements may be submitted at any time before or after the meeting. However, to facilitate distribution of public presentation materials to PECSEA members, the PECSEA suggests that public presentation materials or comments be forwarded before the meeting to Ms. Yvette Springer.

For more information, contact Yvette Springer on 202-482-2813.

Dated: November 17, 2013.
Kevin J. Wolf,
Assistant Secretary for Export Administration.

[FR Doc. 2013-28396 Filed 11-26-13; 8:45 am]

BILLING CODE 3510-JT-P